INTERNATIONAL TRADE COMMISSION

[Investigation No. 337-TA-617]

In the Matter of Certain Digital Television Products and Certain Products Containing Same and Methods of Using Same; Order: Denial of Motion for a Stay of Exclusion Order and Cease and Desist Orders

The Commission instituted this investigation on November 15, 2007, based on a complaint filed by Funai Electric Co., Ltd. of Japan and Funai Corporation of Rutherford, New Jersey (collectively “Funai”) against several respondents including Vizio, Inc. of Irvine, California (“Vizio”); AmTran Technology Co., Ltd. of Taiwan (“AmTran”); Syntax-Brillian Corporation of Tempe, Arizona (“SBC”); Taiwan Kolin Co., Ltd. of Taiwan (“Taiwan Kolin”); Proview International Holdings, Ltd. of Hong Kong (“Proview International”); Proview Technology (Shenzhen) Co., Ltd. of China (“Proview Shenzhen”); Proview Technology, Ltd. of Garden Grove, California (“Proview Technology”); TPV Technology, Ltd. of Hong Kong (“TPV Technology”); TPV International (USA), Inc. of Austin, Texas (“TPV USA”); Top Victory Electronics (Taiwan) Co., Ltd. of Taiwan (“Top Victory”); and Envision Peripherals, Inc. of Fremont, California (“Envision”). 72 FR 64240 (2007). The complaint alleges violations of Section 337 of the Tariff Act of 1930, as amended, 19 U.S.C. 1337, in the importation into the United States, the sale for importation, and the sale within the United States after importation of certain digital television products and certain products containing same by reason of infringement of one or more claims of U.S. Patent Nos. 6,115,074 (“the '074 patent”) and 5,329,369.

On April 10, 2009, the Commission terminated this investigation with a finding of violation of Section 337 as to the '074 patent. The Commission determined that the appropriate form of relief is (1) a limited exclusion order under 19 U.S.C. 1337(d)(1) prohibiting the unlicensed entry of certain digital television products and certain products containing the same that infringe one or more of claims 1, 5, and 23 of the '074 patent, and are manufactured abroad by or on behalf of, or imported by or on behalf of, Vizio, AmTran, SBC, Taiwan Kolin, Proview International, Proview Shenzhen, Proview Technology, TPV Technology, TPV USA, Top Victory, and Envision; and (2) cease and desist orders directed to Vizio, SBC, Proview Technology, TPV USA, and Envision.

On June 2, 2009, respondents Vizio, AmTran, TPV Technology, TPV USA, Top Victory, and Envision (collectively “Respondents”) filed a motion to stay the limited exclusion and cease and desist orders pending appeal of the Commission's determination to the U.S. Court of Appeals for the Federal Circuit. Funai and the Commission investigative attorney (“IA”) filed responses opposing the motion on June 12, 2009. On June 18, 2009, Respondents filed a motion for leave to file a joint reply in support of their motion to stay. The IA filed an opposition to this motion on June 29, 2009.

Upon consideration of this matter, the Commission hereby orders that:

1. Respondents' motion to stay enforcement of the limited exclusion order and cease and desist orders pending appeal is denied.

2. Respondents' motion for leave to file a joint reply in support of motion to stay enforcement of the limited exclusion order and cease and desist order pending appeal is denied.

3. Notice of this Order and a Commission Opinion to be issued at a later date shall be served on the parties to this investigation.

By order of the Commission.
Issued: July 28, 2009.
Marilyn R. Abbott,
Secretary to the Commission.
William R. Bishop,
Acting Secretary to the Commission.

[FR Doc. E9-18329 Filed 7-30-09; 8:45 am]

BILLING CODE P